NATIONAL ARCHIVES AND RECORDS ADMINISTRATION

[NARA-21-0018; NARA-2022-064]

Records Schedules; Administrative Correction Notice

AGENCY: National Archives and Records Administration (NARA).

ACTION: Notice of administrative correction to a records schedule.

SUMMARY: We are making the following administrative corrections to schedule DAA-0566-2018-0006, which provides disposition authority for United States Citizenship and Immigration Services Form 1-824, Application for Action on an Approved Application or Petition. The schedule covers forms and supporting documentation used to request duplicates of immigration forms and notices, and to request notifications of immigration status be sent to various U.S. government entities, such as U.S. consulates. An administrative correction addresses errors or oversights to temporary items in an approved records schedule. We are adding a superseded item citation.

DATES: Submit any comments by October 31, 2022.

ADDRESSES: You can find the records schedule subject to this proposed administrative correction on our website's Records Control Schedule page at https://www.archives.gov/records-mgmt/rcs/schedules/index.html?dir=/departments/department-of-homeland-security/rg-0566.

You may submit comments by the following method:

Federal eRulemaking Portal: https://www.regulations.gov. On the website, enter either of the numbers cited at the top of this notice into the search field. This will bring you to the docket for this notice which has a `comment' button to submit a comment. For more information on regulations.gov and on submitting comments, see their FAQs at https://www.regulations.gov/faq.

If you are unable to comment via regulations.gov, you may email us at request.schedule@nara.gov for instructions on submitting your comment. You must cite the control number of the schedule you wish to comment on.

FOR FURTHER INFORMATION CONTACT: Kimberly Richardson, Regulatory and External Policy Program Manager, by email at regulation_comments@nara.gov or by phone at 301-837-2902. For information about records schedules, contact Records Management Operations by email at request.schedule@nara.gov.

SUPPLEMENTARY INFORMATION: Administrative corrections are changes to temporary items on approved records schedules to address errors or oversights when the records were originally scheduled. The notice applies only to the changes described; not to other portions of a schedule. Submitting agencies cannot implement administrative corrections until the comment period ends and NARA approves the changes.

This administrative correction should be read in conjunction with the previously approved records schedule, N1-85-96-01, Department of Justice, Immigration and Naturalization Service, Immigration and Naturalization Service (INS) Service Center Receipt Files. You can find this schedule on the Records Control Schedule at https://www.archives.gov/files/records-mgmt/rcs/schedules/departments/department-of-justice/rg-0085/n1-085-96-001_sf115.pdf.

Proposed Change

Administrative correction to include a superseded authority citation that was not correctly identified on schedule DAA-0566-2018-0006, Department of Homeland Security, U.S. Citizenship and Immigration Services, 1-824, Application for Action on an Approved Application or Petition, available on the Records Control Schedule page at https://www.archives.gov/files/records-mgmt/rcs/schedules/departments/department-of-homeland-security/rg-0566/daa-0566-2018-0006_sf115.pdf. The schedule item DAA-0566-2018-0006-0001, approved in 2019, was intended to supersede N1-85-96-01, item 1, Approved Applications for Action on an Approved Application or Petition. The supersession did not appear in the Portable Document Format (PDF) version of the schedule because of a technical error. This error created an ambiguous disposition. DAA-0566-2018-0006-0001 will now supersede N1-85-96-01, item 1. The 2019 schedule does not modify the retention period for these records.

Laurence Brewer,
Chief Records Officer for the U.S. Government.

[FR Doc. 2022-19823 Filed 9-13-22; 8:45 am]

BILLING CODE 7515-01-P